GENERAL SERVICES ADMINISTRATION

41 CFR Part 102-118

[FMR Case 2023-02; Docket No. GSA-FMR-2023-0014; Sequence No. 1]

RIN 3090-AK73

Federal Management Regulation; Transportation Payment and Audit Regulations—Correction

AGENCY: Office of Government-wide Policy, General Services Administration (GSA).

ACTION: Proposed rule; correction.

SUMMARY: The General Services Administration (GSA) is issuing a correction to FMR Case 2023-02: Transportation Payment and Audit Regulations. The document contained an incorrect background paragraph. This document contains the correct paragraph.

DATES: The subject FMR case continues to have a comment due date of April 16, 2024.

FOR FURTHER INFORMATION CONTACT: Mr. Ron Siegel, Policy Analyst, at 202-702-0840 for clarification of content. For information pertaining to status or publication schedules, contact the Regulatory Secretariat Division at 202-501-4755 or GSARegSec@gsa.gov. Please cite FMR Case 2023-02—Correction.

SUPPLEMENTARY INFORMATION:

Background

GSA intended to make it clear that agencies are required to submit their payment documentation for a post payment audit through GSA's Transportation Audits Management System (TAMS) to comply with Office of Management and Budget (OMB) Memorandum, M-23-07. This OMB Memorandum reaffirms the Federal Government's overarching objective to shift towards electronic records. However, the initial publication failed to adequately articulate the reasons behind GSA's regulatory modification.

Correction

In proposed rule FR Doc. 2024-0279, beginning on page 12296 in the issue of February 16, 2024, make the following correction. On page 12297, in the first column, revise the first sentence of the last paragraph and add two additional sentences to read as follows:

“GSA Transportation Audits Division maintains a central repository of electronic transportation billing records for legal and auditing purposes. Therefore, to comply with the Office of Management and Budget Memorandum M-23-07, GSA now requires agencies to submit their payment documentation for a post payment audit via the Transportation Audits Management System (TAMS). Other documents that may need to be sent to GSA Transportation Audits Division will only be accepted electronically via email. * * * ”

Krystal J. Brumfield,
Associate Administrator, Office of Government-wide Policy.

[FR Doc. 2024-07302 Filed 4-8-24; 8:45 am]

BILLING CODE 6820-14-P